DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Site Visit Protocol for the Comprehensive Community Mental Health Services Program for Children and Their Families—NEW

SAMHSA's Center for Mental Health Services will conduct site visits during the second and fourth years of grants and cooperative agreements funded through the Comprehensive Community Mental Health Services Program for Children and Their Families. Sixth year site visits are optional and are held at the discretion of the System of Care Community. The site visits will provide opportunities for the System of Care Community to highlight policies and practices that are most impacted by their implementation activities, and to demonstrate the full breadth and scope of their work in developing a community-based system of care for children and adolescents with serious emotional disturbance and their families. A site visit protocol will be used to help ensure consistent discussion of key development issues relevant to strengthening systems of care in tribes, states and local communities.

The protocol will be used to help facilitate discussions on the following ten domains: strategic & sustainability planning; target population of children and adolescents with a serious emotional disturbance; child, adolescent and family services and supports, system level coordination, infrastructure and management structure; fiscal management; cultural and linguistic competence; family and youth partnerships; public education and social marketing; evaluation; and service records.

This information collection supports The President's New Freedom Initiative, one of SAMHSA's current priorities. As part of this effort, the President launched the New Freedom Commission on Mental Health to address the problems in the current mental health system. This protocol is aimed at providing a framework for obtaining information on the developmental progress of systems of care that is consistent with the direction described in The President's New Freedom Commission Report.

Using the protocol as a guide, the funded project will develop an agenda for its site visit that will provide the opportunity for discussion in each of the ten domains of the protocol. Group discussions with project staff and community partners will be conducted for each domain area of the protocol. Finally, the protocol will be used by the federal project officer as a guide for the development of a site visit report.

Estimates of Annualized Hour Burden
Number of respondents | Responses per respondents | Hours per responses | Total hour burden
2,000 | 1 | 1.5 | 3,000

Send comments to Summer King, SAMHSA Reports Clearance Officer, Room 7-1045, 1 Choke Cherry Road, Rockville, MD 20850. Written comments should be received by December 7, 2004.

Dated: October 1, 2004.
Anna Marsh,
Executive Officer, SAMHSA.

[FR Doc. 04-22714 Filed 10-7-04; 8:45 am]

BILLING CODE 4162-20-P